DEPARTMENT OF LABOR

Occupational Safety and Health Administration

[Docket No. OSHA-2016-0005]

Notice of Public Meeting

AGENCY: Occupational Safety and Health Administration.

ACTION: Notice of public meeting.

SUMMARY: This notice is to advise interested persons that OSHA will conduct a virtual public meeting on June 11, 2024, in advance of the 46th session of the United Nations Sub-Committee of Experts on the Globally Harmonized System of Classification and Labelling of Chemicals (UNSCEGHS) to be held as an in-person meeting July 3-5, 2024, in Geneva, Switzerland. OSHA, along with the U.S. Interagency Globally Harmonized System of Classification and Labelling of Chemicals (GHS) Coordinating Group, plans to consider the comments and information gathered at the June 11, 2024, public meeting when developing the U.S. Government positions for the UNSCEGHS meeting July 3-5, 2024.

DATES: OSHA's virtual public meeting will take place on June 11, 2024. Specific information for the meeting will be posted when available on the OSHA website at https://www.osha.gov/hazcom/international#meeting-notice.

ADDRESSES: This meeting will be held virtually, meaning it will be held virtually and broadcasted by the Department of Labor, in Washington, DC, on June 11, 2024, from 1:00-3:00 p.m.

Written Comments: Interested parties may submit written comments until July 3, 2024, on the Working and Informal Papers for the 46th session of the UNSCEGHS to the docket established for International/Globally Harmonized System (GHS) efforts at: http://www.regulations.gov, Docket No. OSHA-2016-0005.

Registration to Attend and/or to Participate in the Public Meeting: Registration information including how to participate for the OSHA session will be posted when available on the OSHA website at https://www.osha.gov/hazcom/international#meeting-notice.

If you need interpretation or alternative formats or services because of a disability, such as sign language or other ancillary aids, please contact the person listed in the FOR FURTHER INFORMATION CONTACT section.

FOR FURTHER INFORMATION CONTACT: Please contact Ms. Janet Carter, OSHA Directorate of Standards and Guidance, Department of Labor, telephone: (202) 693-2370, email carter.janet@dol.gov.

SUPPLEMENTARY INFORMATION: OSHA will conduct a virtual public meeting on June 11, 2024, to discuss proposals in preparation for the in-person 46th session of the UNSCEGHS July 3-5, 2024, in Geneva, Switzerland. Advanced registration information for OSHA's virtual public meeting will be posted on the OSHA website.

OSHA will solicit public input on U.S. government positions regarding proposals submitted by member countries until July 3, 2024. Information on the work of the UNSCEGHS, including meeting agendas, working and informal papers, reports, and documents from previous sessions can be found on the United Nations Economic Commission for Europe (UNECE) Transport Division website located at: https://unece.org/info/Transport/Dangerous-Goods/events/385417.

Authority and Signature

James S. Frederick, Deputy Assistant Secretary of Labor for Occupational Safety and Health, U.S. Department of Labor, authorized the preparation of this notice under the authority granted by sections 4, 6, and 8 of the Occupational Safety and Health Act of 1970 (29 U.S.C. 653, 655, 657), and Secretary's Order 1-2012 (77 FR 3912), (Jan. 25, 2012).

Signed at Washington, DC, on May 22, 2024.
James S. Frederick,
Deputy Assistant Secretary of Labor for Occupational Safety and Health.

[FR Doc. 2024-11684 Filed 5-28-24; 8:45 am]

BILLING CODE 4510-26-P